DEPARTMENT OF HEALTH AND HUMAN SERVICES

Centers for Disease Control and Prevention

[30-Day-20-1083]

Agency Forms Undergoing Paperwork Reduction Act Review

In accordance with the Paperwork Reduction Act of 1995, the Centers for Disease Control and Prevention (CDC) has submitted the information collection request titled Extended Evaluation of the National Tobacco Prevention and Control Public Education Campaign to the Office of Management and Budget (OMB) for review and approval. CDC previously published a “Proposed Data Collection Submitted for Public Comment and Recommendations” notice on April 23, 2019 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Extended Evaluation of the National Tobacco Prevention and Control Public Education Campaign—Revision—National Center for Chronic Disease Prevention and Health Promotion (NCCDPHP), Centers for Disease Control and Prevention (CDC).

Background and Brief Description

In 2012, HHS/CDC launched the National Tobacco Prevention and Control Public Education Campaign (Tips). The primary objectives of Tips are to encourage smokers to quit smoking and to encourage nonsmokers to communicate with smokers about the dangers of smoking. Tips airs annually in all U.S. media markets on broadcast and national cable TV as well as other media channels including digital video, online display and banners, radio, billboards, and other formats. Tips ads rely on evidence-based paid media advertising that highlights the negative health consequences of smoking. Tips' primary target audience is adult smokers; adult nonsmokers constitute the secondary audience. Tips paid advertisements are aimed at providing motivation and support to smokers to quit, with information and other resources to increase smokers' chances of success in their attempts to quit smoking. A key objective for the nonsmoker audience is to encourage nonsmokers to communicate with smokers they may know (including family and friends) about the dangers of smoking and to encourage them to quit. Tips ads also focus on increasing audience's knowledge of smoking-related diseases, intentions to quit, and other related outcomes.

The goal of the proposed information collection is to evaluate the reach of Tips among intended audiences and to examine the effectiveness of these efforts in impacting specific outcomes that are targeted by Tips, including quit attempts and intentions to quit among smokers, nonsmokers' communications about the dangers of smoking, and knowledge of smoking-related diseases among both audiences. This will require customized surveys that will capture all unique messages and components of Tips. Information will be collected through Web surveys to be self-administered by adults 18 and over on computers in the respondent's home or in another convenient location. Evaluating Tips' impact on behavioral outcomes is necessary to determine campaign cost effectiveness and to allow program planning for the most effective campaign outcomes. Because Tips content changes, it is necessary to evaluate each yearly implementation of Tips.

The proposed information collection will include three survey collections per year (nine surveys in total) generally conducted before, during, and after Tips in each year. Using the same methods outlined in the currently-approved information collection (OMB No. 0920-1083, Exp. 2/29/2020), participants will be recruited from two sources: (1) An online longitudinal cohort of adult smokers and nonsmokers, sampled randomly from postal mailing addresses in the United States (address-based sample, or ABS); and (2) the existing GfK/Ipsos (formerly GfK) KnowledgePanel, an established long-term online panel of U.S. adults. All online surveys, regardless of sample source, will be conducted via the GfK/Ipsos KnowledgePanel Web portal for self-administered surveys.

Information will be collected through Web surveys to be self-administered on computers in the respondent's home or in another convenient location. Information will be collected about smokers' and nonsmokers' awareness of and exposure to specific Tips advertisements; knowledge, attitudes, beliefs related to smoking and secondhand smoke; and other marketing exposure. The surveys will also measure behaviors related to smoking cessation (among the smokers in the sample) and behaviors related to nonsmokers' encouragement of smokers to quit smoking, recommendations of cessation services, and attitudes about other tobacco and nicotine products.

It is important to evaluate Tips in a context that assesses the dynamic nature of tobacco product marketing and uptake of various tobacco products, particularly since these may affect successful cessation rates. Survey instruments may be updated to include new or revised items on relevant topics, including cigars, noncombustible tobacco products, and other emerging trends in tobacco use.

Participation is voluntary and there are no costs to respondents other than their time. The total response burden is estimated at 27,924 hours over 3 years between early fall 2020 and December 2023. The total annualized burden hours during this period thus are estimated at 9,308.

Estimated Annualized Burden Hours
(Type of) respondents | Form name | Number of respondents | Number of responses per respondent | Average burden per response (in hours)
General population | Screening & Consent (English) | 16,167 | 1 | 5/60
| Screening & Consent (Spanish) | 500 | 1 | 5/60
Adult Smokers, ages 18-54, in the United States | Smoker Survey Wave A (English) | 2,587 | 1 | 20/60
| Smoker Survey Wave A (Spanish) | 80 | 1 | 20/60
| Smoker Survey Wave B (English) | 1,617 | 1 | 20/60
| Smoker Survey Wave B (Spanish) | 50 | 1 | 20/60
| Smoker Survey Wave C (English) | 1,617 | 1 | 20/60
| Smoker Survey Wave C (Spanish) | 50 | 1 | 20/60
| Smoker Survey Wave D (English) | 1,617 | 1 | 20/60
| Smoker Survey Wave D (Spanish) | 50 | 1 | 20/60
| Smoker Survey Wave E (English) | 1,617 | 1 | 20/60
| Smoker Survey Wave E (Spanish) | 50 | 1 | 20/60
| Smoker Survey Wave F (English) | 1,617 | 1 | 20/60
| Smoker Survey Wave F (Spanish) | 50 | 1 | 20/60
| Smoker Survey Wave G (English) | 1,617 | 1 | 20/60
| Smoker Survey Wave G (Spanish) | 50 | 1 | 20/60
| Smoker Survey Wave H (English) | 1,617 | 1 | 20/60
| Smoker Survey Wave H (Spanish) | 50 | 1 | 20/60
| Smoker Survey Wave I (English) | 1,617 | 1 | 20/60
| Smoker Survey Wave I (Spanish) | 50 | 1 | 20/60
Adult Nonsmokers, ages 18-54, in the United States | Nonsmoker Survey Wave A (English) | 1,000 | 1 | 20/60
| Nonsmoker Survey Wave A (Spanish) | 100 | 1 | 20/60
| Nonsmoker Survey Wave B (English) | 808 | 1 | 20/60
| Nonsmoker Survey Wave B (Spanish) | 25 | 1 | 20/60
| Nonsmoker Survey Wave C (English) | 808 | 1 | 20/60
| Nonsmoker Survey Wave C (Spanish) | 25 | 1 | 20/60
| Nonsmoker Survey Wave D (English) | 808 | 1 | 20/60
| Nonsmoker Survey Wave D (Spanish) | 25 | 1 | 20/60
| Nonsmoker Survey Wave E (English) | 808 | 1 | 20/60
| Nonsmoker Survey Wave E (Spanish) | 25 | 1 | 20/60
| Nonsmoker Survey Wave F (English) | 808 | 1 | 20/60
| Nonsmoker Survey Wave F (Spanish) | 25 | 1 | 20/60
| Nonsmoker Survey Wave G (English) | 808 | 1 | 20/60
| Nonsmoker Survey Wave G (Spanish) | 25 | 1 | 20/60
| Nonsmoker Survey Wave H (English) | 808 | 1 | 20/60
| Nonsmoker Survey Wave H (Spanish) | 25 | 1 | 20/60
| Nonsmoker Survey Wave I (English) | 808 | 1 | 20/60
| Nonsmoker Survey Wave I (Spanish) | 25 | 1 | 20/60

Jeffrey M. Zirger,
Lead, Information Collection Review Office, Office of Scientific Integrity, Office of Science, Centers for Disease Control and Prevention.

[FR Doc. 2019-22080 Filed 10-8-19; 8:45 am]

BILLING CODE 4163-18-P